DEPARTMENT OF THE INTERIOR

Bureau of Land Management

[ES-960-1430-BJ] ES-051990, Group 26, Illinois

Notice of Filing of Plat of Survey; Illinois

The Bureau of Land Management (BLM) will officially file the plat of the survey of the Locks and Dam No. 27 easement acquisition boundary as described in the U.S. Army Corps of Engineers tract descriptions E-1 and B-165 in Township 4 North, Range 9 West, Third Principal Meridian, Illinois, accepted on September 5, 2003, in the Eastern States Office, Springfield, Virginia, 30 calendar days from the date of publication in the Federal Register.

The survey was requested by the U.S. Army Corps of Engineers.

All inquiries or protests concerning the technical aspects of the survey must be submitted in writing to the Chief Cadastral Surveyor, Eastern States, Bureau of Land Management, 7450 Boston Boulevard, Springfield, Virginia 22153, prior to the date of the official filing.

We will place a copy of the plat we described in the open files. Copies of the plat will be made available upon request and prepayment of the appropriate fee.

Dated: September 5, 2003.
Stephen D. Douglas,
Chief Cadastral Surveyor.

[FR Doc. 03-25861 Filed 10-10-03; 8:45 am]

BILLING CODE 4310-GJ-P